DEPARTMENT OF JUSTICE

[OMB Number 1105-0101]

Agency Information Collection Activities; Proposed eCollection; eComments requested

AGENCY: Office of Tribal Justice, Department of Justice. Tribal Requests for Accelerated Exercise of Jurisdiction Under Section 204(a) of the Indian Civil Rights Act of 1968, as Amended.

ACTION: 30-day notice.

SUMMARY: The Department of Justice, Office of Tribal Justice, will be submitting the following information collection request to the Office of Management and Budget (OMB) for review and approval in accordance with the Paperwork Reduction Act of 1995. The proposed information collection was previously published in the Federal Register Volume 79, Number 43, pages 12527-12528, on March 5, 2014, allowing for a 60 day comment period.

DATES: Comments are encouraged and will be accepted for an additional 30 days until June 11, 2014.

FOR FURTHER INFORMATION CONTACT: If you have comments, especially on the estimated public burden or associated response time, suggestions, or need additional information, please contact Mr. Tracy Toulou, Director, Office of Tribal Justice, Department of Justice, 950 Pennsylvania Avenue NW., Room 2310, Washington, DC 20530; telephone: (202) 514-8812.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Request for Accelerated Authority to Exercise Special Domestic Violence Criminal Jurisdiction.

(3) Agency form number: Not applicable.

(4) Affected public who will be asked or required to respond, as well as a brief abstract: Primary: Tribal governments. Other: None.

Abstract: The Violence Against Women Reauthorization Act of 2013 (VAWA 2013) was signed into law on March 7, 2013. Section 904 of VAWA 2013 recognizes the inherent power of “participating tribes” to exercise special domestic violence criminal jurisdiction over certain defendants, regardless of their Indian or non-Indian status, who commit acts of domestic violence or dating violence or violate certain protection orders in Indian country. Section 904 also specifies the rights that a participating tribe must provide to defendants in special domestic violence criminal jurisdiction cases. Section 908(b)(1) provides that tribes generally cannot exercise the special jurisdiction until March 7, 2015, but Section 908(b)(2) establishes a pilot project that authorizes the Attorney General, in the exercise of his discretion, to grant a tribe's request to be designed as a “participating tribe” on an accelerated basis and to commence exercising the special jurisdiction on a date (prior to March 7, 2015) set by the Attorney General, after coordinating with the Secretary of the Interior, consulting with affected tribes, and concluding that the tribe's criminal justice system has adequate safeguards in place to protect defendants' rights, consistent with Section 204 of the Indian Civil Rights Act, as amended, 25 U.S.C. 1304. The Department of Justice has published a notice seeking comments on procedures for an Indian tribe to request designation as a “participating tribe” on an accelerated basis), and for the Attorney General to act on such requests, 78 FR 35961 (June 14, 2013). Pursuant to the notice, the Attorney General has delegated to the Associate Attorney General the authority to decide whether to grant the request of a tribe to be designated as a “participating tribe” prior to March 7, 2015. The purpose of the collection is to provide information from the requesting tribe sufficient for the Associate Attorney General to make that decision.

(5) An estimate of the total number of respondents and the amount of time estimated for an average respondent to respond: Fewer than 40 respondents; average of 16 hours.

(6) An estimate of the total public burden (in hours) associated with the collection: There are an estimated 640 total burden hours associated with this collection.

If additional information is required contact: Jerri Murray, Department Clearance Officer, United States Department of Justice, Justice Management Division, Policy and Planning Staff, Two Constitution Square, 145 N Street NE., Room 3E.405B, Washington, DC 20530.

Dated: May 7, 2014.
Jerri Murray,
Department Clearance Officer for PRA, U.S. Department of Justice.

[FR Doc. 2014-10790 Filed 5-9-14; 8:45 am]

BILLING CODE 4410-A5-P